DEPARTMENT OF ENERGY

Federal Energy Regulatory Commission

[Project No. 3494-058 Pennsylvania]

Allegheny No. 6 Hydro Partners; Notice of Availability of Draft Environmental Assessment and Soliciting Comments, Protests, and Motions to Intervene

November 1, 2001.

In accordance with the National Environmental Policy Act of 1969 and the Federal Energy Regulatory Commission's (Commission) regulations, 18 CFR part 380 (Order No. 486, 52 FR 47897), the Office of Energy Projects has reviewed an application to install 12-inch-high flashboards at the Allegheny Lock and Dam No. 6 Hydroelectric Project and has prepared a Draft Environmental Assessment (DEA). The hydroelectric project is located at a U.S. Army Corps of Engineers dam (Lock and Dam No. 6) on the Allegheny River, near the town of Ford City, in Armstrong County, Pennsylvania. No other federal or tribal lands are occupied by the hydroelectric project.

The Commission has begun a proceeding to determine if reserved authority in article 17 of the license should be used to require 12-inch-high flashboards at Lock and Dam No. 6. Flashboards can be used to increase water levels in Pool No. 6 to more closely resemble pre-hydroelectric conditions. The proceeding is in response to concerns raised by the Pennsylvania Fish and Boat Commission and private citizens about the impacts of project-induced lower water levels on recreational boating in Pool No. 6. The DEA contains Commission staff's preliminary analysis of the potential environmental impacts of installing 12-inch-high flashboards and concludes that flashboards should not be installed at Lock and Dam No. 6 because of adverse impacts to wetlands.

A copy of the DEA is on file with the Commission and is available for public inspection. The DEA may also be viewed on the web at http://www.ferc.gov using the “RIMS” link—select “Docket #” (P-3494) and follow the instructions (call 202-208-2222 for assistance).

Any comments, protests, and motions to intervene should be filed within 60 days from the date of this notice and should be addressed to David P. Boergers, Secretary, Federal Energy Regulatory Commission, 888 First Street, NE., Washington, DC 20426. Please affix Project No. P-3494-058 to all comments, protests, and motions to intervene.

Comments, protests, and motions to intervene may be filed electronically via the Internet in lieu of paper. See 18 CFR 385.2001(a)(1)(iii) and the instructions on the Commission's web site under the “e-Filing” link.

The Commission's rules of practice and procedure require all intervenors filing documents with the Commission to serve a copy of that document on each person whose name appears on the official service list for the project. Further, if an intervenor files comments or documents with the Commission relating to the merits of an issue that may affect the responsibilities of a particular resource agency, they must also serve a copy of the document on that resource agency.

Individuals desiring to be included on the Commission's mailing list should so indicate by writing to the Secretary of the Commission.

Anyone may submit comments, a protest, or a motion to intervene in accordance with the requirements of rules of practice and procedure, 18 CFR 385.210, 385.211, 385.214. In determining the appropriate action to take, the Commission will consider all protests or other comments filed, but only those who file a motion to intervene in accordance with the Commission's rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. If an agency does not file comments within the time specified for filing comments, it will be presumed to have no comments. One copy of an agency's comments must also be sent to the licensee's representatives. For further information contact the licensee's representative: Robert Hanna, Sithe Energies, Inc., 1400 Fourth Avenue, Ford City, PA 16226 at (724) 763-2026 or the Commission's contact person: Steve Hocking at (202) 219-2656.

Linwood A. Watson, Jr.,
Acting Secretary.

[FR Doc. 01-27897 Filed 11-6-01; 8:45 am]

BILLING CODE 6717-01-P